DEPARTMENT OF TRANSPORTATION

Federal Railroad Administration

[Docket No. FRA-2024-0013]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) summarized below to the Office of Management and Budget (OMB) for review and comment. The ICR describes the information collection and its expected burden. On August 5, 2024, FRA published a notice providing a 60-day period for public comment on the ICR. FRA received no substantive comments in response to the notice.

DATES: Interested persons are invited to submit comments on or before November 14, 2024.

ADDRESSES: Written comments and recommendations for the proposed ICR should be sent within 30 days of publication of this notice to www.reginfo.gov/public/do/PRAMain. Find the particular ICR by selecting “Currently under Review—Open for Public Comments” or by using the search function.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On August 5, 2024, FRA published a 60-day notice in the Federal Register soliciting public comment on the ICR for which it is now seeking OMB approval. See 89 FR 63468. FRA has received no substantive comments related to the proposed collection of information.

Before OMB decides whether to approve this proposed collection of information, it must provide 30 days' notice for public comment. Federal law requires OMB to approve or disapprove paperwork packages between 30 and 60 days after the 30-day notice is published. 44 U.S.C. 3507(b)-(c); 5 CFR 1320.12(d); see also 60 FR 44978, 44983, Aug. 29, 1995. The 30-day notice informs the regulated community of its opportunity to file relevant comments and affords the agency adequate time to consider public comments before it renders a decision. 60 FR 44983, Aug. 29, 1995. Therefore, each respondent should submit their comments to OMB within 30 days of publication to best ensure having their full effect.

Comments are invited on the following ICR regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Report of Railroad Trespasser Form.

OMB Control Number: 2130-0635.

Abstract: Trespassing on railroad rights-of-way and other railroad property is the leading cause of fatalities attributable to railroad operations in the United States. To address this serious issue, the railroad industry, governments (Federal, State, and local), and other interested parties must know more about the individuals who trespass and causes. With such knowledge, specific educational programs, materials, and messages regarding the hazards and consequences of trespassing on railroad property can be developed and effectively distributed. Due to the lack of available root cause data, FRA collects data from law enforcement agencies to develop general descriptions of the causes of trespassing. This allows FRA and other interested parties, such as Operation Lifesaver, to target audiences with appropriate education and enforcement campaigns to reduce the resulting annual number of injuries and fatalities.

Completion and submission of form FRA F 6180.178, Report of Railroad Trespasser Form, is required for law enforcement agency grantees as a condition of FRA's Railroad Trespassing Enforcement Grant Program. Grantees complete the form for each railroad trespasser incident in their jurisdiction, describing the trespasser's ethnicity, gender, and age to the best of their ability. For law enforcement agencies that do not receive FRA's Railroad Trespassing Enforcement grants, completion and submission of this form is voluntary.

FRA provides an electronic option where the respondents can respond via a web-based form. The web-based form also helps FRA maintain the data collected in a more useful and uniform manner, as the dropdown boxes facilitate more standardized responses.

Type of Request: Extension without change (with changes in estimates) of a currently approved information collection.

Affected Public: Public authorities.

Form(s): FRA F 6180.178.

Respondent Universe: Law enforcement agencies.

Frequency of Submission: Monthly.

Total Estimated Annual Responses: 2,600.

Total Estimated Annual Burden: 350 hours.

Total Estimated Annual Burden Hour Dollar Cost Equivalent: $21,196.

FRA informs all interested parties that it may not conduct or sponsor, and a respondent is not required to respond to, a collection of information that does not display a currently valid OMB control number.

Authority: 44 U.S.C. 3501-3520.

Christopher S. Van Nostrand,
Deputy Chief Counsel.

[FR Doc. 2024-23707 Filed 10-11-24; 8:45 am]

BILLING CODE 4910-06-P